DEPARTMENT OF COMMERCE

International Trade Administration

[A-570-904]

Certain Activated Carbon From the People's Republic of China: Preliminary Results and Rescission, in Part, of Antidumping Duty Administrative Review; 2023-2024

AGENCY: Enforcement and Compliance, International Trade Administration, Department of Commerce.

SUMMARY: The U.S. Department of Commerce (Commerce) preliminarily finds that certain activated carbon (activated carbon) from the People's Republic of China (China) was sold in the United States at prices below normal value (NV) during the period of review (POR), April 1, 2023, through March 31, 2024. Additionally, we are rescinding this administrative review with respect to six companies for which there were no reviewable entries of subject merchandise during the POR. We invite interested parties to comment on these preliminary results of review.

DATES: Applicable August 15, 2025.

FOR FURTHER INFORMATION CONTACT: Andrew Hart or Nathan Araya, AD/CVD Operations, Office II, Enforcement and Compliance, International Trade Administration, U.S. Department of Commerce, 1401 Constitution Avenue NW, Washington, DC 20230; telephone: (202) 482-1058 or (202) 482-3401, respectively.

SUPPLEMENTARY INFORMATION:

Background

On April 27, 2007, Commerce published in the Federal Register the antidumping duty order on activated carbon from China.¹ On April 1, 2024, Commerce published a notice of opportunity to request an administrative review of the Order, pursuant to section 751(a)(1) of the Tariff Act of 1930, as amended (the Act).² On June 12, 2024, based on timely requests for review from certain interested parties,³ Commerce initiated an administrative review of the Order covering 20 companies,⁴ including the two mandatory respondents, DJAC and Ningxia Huahui.⁵ On July 22, 2024, Commerce tolled certain administrative deadlines in this review by seven days.⁶ On December 9, 2024, Commerce tolled administrative deadlines in this review by an additional 90 days.⁷ On March 11, 2025, Commerce extended the deadline for the preliminary results, which is now August 5, 2025.⁸

¹ See Notice of Antidumping Duty Order: Certain Activated Carbon from the People's Republic of China, 72 FR 20988 (April 27, 2007) (Order).

² See Antidumping or Countervailing Duty Order, Finding, or Suspended Investigation; Opportunity to Request Administrative Review and Join Annual Inquiry Service List, 89 FR 22390 (April 1, 2024).

³ See Carbon Activated Tianjin Co., Ltd.'s Letter, “Request for Antidumping Administrative Review,” dated April 25, 2024; see also Ningxia Huahui Environmental Technology Co., Ltd.'s Letter, “Request for Administrative Review,” dated April 26, 2024; Ningxia Mineral & Chemical Limited's Letter, “Request for Administrative Review,” dated April 26, 2024; Tancarb Activated Carbon Co., Ltd.'s Letter, “Request for Administrative Review,” dated April 26, 2024; Beijing Pacific Activated Carbon Products Co., Ltd.'s Letter, “Administrative Review Request,” dated April 28, 2024; Shanxi Sincere Industrial Co., Ltd. and Tianjin Channel Filters Co., Ltd.'s Letter, “Request for Administrative Review,” dated April 29, 2024; Jacobi Carbons AB and Affiliates Letter, “Jacobi's Request for Administrative Review,” dated April 30, 2024; Ningxia Guanghua Cherishmet Activated Carbon Co., Ltd.'s Letter, “Request for Administrative Review,” dated April 30, 2024; Bengbu Modern Environmental Co., Ltd.'s Letter, “Request for Administrative Review,” dated April 30, 2024; Datong Hongdi Carbon Co., Ltd.'s Letter, “Request for Administrative Review,” dated April 30, 2024; Jilin Bright Future Chemicals Co., Ltd.'s Letter, “Request for Administrative Review,” dated April 30, 2024; Shanxi Industry Technology Trading Co., Ltd.'s Letter “Request for Administrative Review,” dated April 30, 2024; Datong Municipal Yunguang Activated Carbon Co., Ltd.'s Letter, “Request for Administrative Review,” dated April 30, 2024; and Datong Juqiang Activated Carbon Co., Ltd.'s Letter, “Request for Antidumping Administrative Review,” dated April 30, 2024.

⁴ See Initiation of Antidumping and Countervailing Duty Administrative Reviews, 89 FR 49844 (June 12, 2024) (Initiation Notice). In the Initiation Notice, we listed Ningxia Huahui and Ningxia Huahui Activated Carbon Co. Ltd. as two separate companies; however, Commerce previously determined that Ningxia Huahui is the successor-in-interest to Ningxia Huahui Activated Carbon Co. Ltd. See Certain Activated Carbon from the People's Republic of China: Notice of Final Results of Antidumping Duty Changed Circumstances Review, 86 FR 64184 (November 17, 2021).

⁵ See Memorandum, “Respondent Selection,” dated September 25, 2024.

⁶ See Memorandum, “Tolling of Deadlines for Antidumping and Countervailing Duty Proceedings,” dated July 22, 2024.

⁷ See Memorandum, “Tolling of Deadlines for Antidumping and Countervailing Duty Proceedings,” dated December 9, 2024.

⁸ See Memorandum, “Extension of Deadline for Preliminary Results of Antidumping Duty Administrative Review,” dated March 11, 2025.

For a complete description of the events that followed the initiation of this review, see the Preliminary Decision Memorandum.⁹ A list of topics included in the Preliminary Decision Memorandum is provided in Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁹ See Memorandum, “Decision Memorandum for the Preliminary Results of the Antidumping Duty Administrative Review of Activated carbon from the People's Republic of China; 2023-2024,” dated concurrently with, and herby adopted by, this notice (Preliminary Decision Memorandum).

Scope of the Order

The product covered by the Order is activated carbon from China. For a complete description of the scope of the Order, see the Preliminary Decision Memorandum.¹⁰

¹⁰ Id.

Rescission of Review, in Part

Pursuant to 19 CFR 351.213(d)(3), Commerce's practice is to rescind an administrative review when there are no reviewable entries of subject merchandise during the POR for which liquidation is suspended.¹¹ Normally, upon completion of an administrative review, the suspended entries are liquidated at the antidumping duty assessment rate calculated for the review period.¹² Therefore, to conduct an administrative review of a company, there must be a suspended entry that Commerce can instruct U.S. Customs and Border Protection (CBP) to liquidate at the antidumping duty assessment rate calculated for the POR.¹³

¹¹ See, e.g., Large Diameter Welded Pipe from Greece: Rescission of Antidumping Duty Administrative Review; 2022-2023, 89 FR 4274 (January 23, 2024).

¹² See 19 CFR 351.212(b)(1).

¹³ See 19 CFR 351.213(d)(3).

On June 16, 2025, we notified parties of our intent to rescind this administrative review, in part, with respect to the companies listed in Appendix IV because there were no suspended entries of subject merchandise produced or exported by these firms during the POR. We invited interested parties to comment.¹⁴ No parties commented on our intent to rescind the review with respect to these companies. Thus, in the absence of suspended entries of subject merchandise from these companies during the POR, we are rescinding the administrative review with respect to the companies listed in Appendix IV, in accordance with 19 CFR 351.213(d)(3).

¹⁴ See Memorandum, “Notice of Intent to Rescind Review, In Part,” dated June 16, 2025.

Methodology

Commerce is conducting this review in accordance with section 751(a)(1)(B) of the Act. We calculated export price in accordance with section 772 of the Act. Because China is a non-market economy (NME) country within the meaning of section 771(18) of the Act, we calculated NV in accordance with section 773(c) of the Act. For a full description of the methodology underlying our preliminary results, see the Preliminary Decision Memorandum.¹⁵

¹⁵ See Preliminary Decision Memorandum at “Discussion of the Methodology” section.

Separate Rates

In the Initiation Notice, we informed parties that all firms for which a review was initiated that wished to qualify for separate rate status must complete, as appropriate, either a separate rate application (SRA) or a separate rate certification (SRC).¹⁶ Commerce preliminarily determines that DJAC and Ningxia Huahui and the seven companies listed in Appendix II are eligible to receive a separate rate in this review. Commerce also preliminarily determines that the five companies listed in Appendix III are not eligible to receive a separate rate and are, therefore, considered part of the China-wide entity because each of them failed to file an SRA or SRC. For further discussion, see the Preliminary Decision Memorandum.

¹⁶ See Initiation Notice, 89 FR at 49845.

Separate Rate Calculation

The Act and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate rate respondents which Commerce did not examine individually in an administrative review. Section 735(c)(5)(A) of the Act states that the all-others rate should be calculated by averaging the weighted-average dumping margins calculated for individually-examined respondents, excluding dumping margins that are zero, de minimis, or based entirely on facts available.

For the preliminary results of this review, Commerce determined the estimated dumping margins for DJAC and Ningxia Huahui are $1.41/kg and $1.30/kg, respectively. For the reasons explained in the Preliminary Decision Memorandum, we are assigning to the seven non-examined respondents which qualify for a separate rate in this review, an estimated dumping margin of $1.34/kg, consistent with Commerce's practice and section 735(c)(5)(A) of the Act.

China-Wide Entity

Under Commerce's policy regarding the conditional review of the China-wide entity,¹⁷ the China-wide entity will not be under review unless a party specifically requests, or Commerce self-initiates, a review of the entity. Because no party requested a review of the China-wide entity in this review, the entity is not under review, and the entity's rate (i.e., $2.42/kg) is not subject to change.¹⁸ Because each of the companies listed in Appendix III failed to timely file an SRA or SRC in this proceeding, we preliminarily find that each company is ineligible for a separate rate and is considered part of the China-wide entity.

¹⁷ See Antidumping Proceedings: Announcement of Change in Department Practice for Respondent Selection in Antidumping Duty Proceedings and Conditional Review of the Nonmarket Economy Entity in NME Antidumping Duty Proceedings, 78 FR 65963 (November 4, 2013).

¹⁸ See Order.

Preliminary Results of Review

¹⁹ In the second administrative review of the Order, Commerce determined that it would calculate per-unit weighted-average dumping margins and assessment amounts for all future reviews. See Certain Activated Carbon from the People's Republic of China: Final Results and Partial Rescission of Second Antidumping Duty Administrative Review, 75 FR 70208, 70211 (November 17, 2010).

²⁰ See Appendix II.

Commerce preliminarily determines that the following weighted-average dumping margins exist for the period April 1, 2023, through March 31, 2024:

Exporter | Weighted-average dumping margin (U.S. dollars per kilogram) ¹⁹
Datong Juqiang Activated Carbon Co., Ltd | 1.41
Ningxia Huahui Environmental Technology Co., Ltd | 1.30
Separate Rate for Non-Examined Companies ²⁰ | 1.34

Disclosure

Commerce intends to disclose the calculations performed for these preliminary results to interested parties within five days after public announcement, or if there is no public announcement, within five days of the date of publication of this notice in the Federal Register.²¹

²¹ See 19 CFR 351.224(b).

Public Comment

Case briefs or other written comments may be submitted to the Assistant Secretary for Enforcement and Compliance. Pursuant to 19 CFR 351.309(c)(1)(ii), we have modified the deadline for interested parties to submit case briefs to no later than 21 days after the date of the publication of this notice.²² Rebuttal briefs, limited to issues raised in the case briefs, may be filed no later than five days after the date for filing case briefs.²³ Parties who submit case briefs or rebuttal briefs in this proceeding are encouraged to submit with each argument: (1) a table of contents listing each issue; and (2) a table of authorities.²⁴ All briefs must be filed electronically using ACCESS. An electronically filed document must be received successfully in its entirety in ACCESS by 5:00 p.m. Eastern Time on the established deadline.

²² See 19 CFR 351.309.

²³ See 19 CFR 351.309(d); see also Administrative Protective Order, Service, and Other Procedures in Antidumping and Countervailing Duty Proceedings, 88 FR 67069, 67077 (September 29, 2023) (APO and Service Final Rule).

²⁴ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.²⁵ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).²⁶

²⁵ We use the term “issue” here to describe an argument that Commerce would normally address in a comment of the Issues and Decision Memorandum.

²⁶ See APO and Service Final Rule.

Pursuant to 19 CFR 351.310(c), interested parties who wish to request a hearing must submit a written request to the Acting Assistant Secretary for Enforcement and Compliance, U.S. Department of Commerce, filed electronically via ACCESS within 30 days after publication of this notice. Requests should contain: (1) the requesting party's name, address, and telephone number; (2) the number of individuals associated with the requesting party that will attend the hearing and whether any of those individuals is a foreign national; and (3) a list of issues the party intends to discuss at the hearing. Issues raised in the hearing will be limited to issues raised in the respective case briefs. If a request for a hearing is made, Commerce intends to hold the hearing at a date and time to be determined.²⁷ Parties should confirm the date, time, and location of the hearing two days before the scheduled date.

²⁷ See 19 CFR 351.310(d).

Assessment Rates

In accordance with section 751(a)(2)(C) of the Act, the final results of this review shall be the basis for assessment of antidumping duties on entries of merchandise covered by this review.²⁸ Upon issuance of the final results, Commerce shall determine, and U.S. Customs and Border Protection (CBP) shall assess, antidumping duties on all appropriate entries covered by this review.²⁹ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²⁸ See 19 CFR 351.212(b)(1).

²⁹ See 19 CFR 351.212(b)(1).

If the individually examined respondents' weighted-average dumping margins are above de minimis (i.e., 0.50 percent) in the final results of this review, we will calculate importer or customer-specific assessment rates for each respondent on the basis of the ratio of the total amount of dumping calculated for each importer or customer's examined sales and, where possible, the total entered value of those same sales in accordance with 19 CFR 351.212(b)(1).³⁰ Where a respondent did not report entered value, we will calculate importer or customer-specific per-unit duty assessment rates based on the ratio of the total amount of antidumping duties calculated for the examined sales to the total quantity of those sales.

³⁰ See Antidumping Proceedings: Calculation of the Weighted-Average Dumping Margin and Assessment Rate in Certain Antidumping Proceedings: Final Modification, 77 FR 8101, 8103 (February 14, 2012).

Where an importer-specific or customer-specific assessment rate is zero or de minimis, we will instruct CBP to liquidate the appropriate entries without regard to antidumping duties. For entries that were not reported in the U.S. sales database submitted by each mandatory respondent individually examined during this review, Commerce will instruct CBP to liquidate such entries at the rate for the China-wide entity.³¹

³¹ For a full discussion of this practice, see Non-Market Economy Antidumping Proceedings: Assessment of Antidumping Duties, 76 FR 65694 (October 24, 2011).

For the respondents that were not selected for individual examination in this administrative review but qualified for a separate rate, the per unit assessment rate will be the rate established for these companies in the final results of review.

For the final results of this review, if we continue to treat the five companies identified in Appendix III to this notice as part of the China-wide entity, we will instruct CBP to apply the China-wide per-unit assessment rate to all entries of subject merchandise during the POR which were exported by those companies.

For the companies listed in Appendix IV, for which this review is being rescinded, Commerce will instruct CBP to assess antidumping duties on all appropriate entries. Antidumping duties shall be assessed at rates equal to the cash deposit rate for estimated antidumping duties required at the time of entry, or withdrawal from warehouse, for consumption, in accordance with 19 CFR 351.212(c)(1)(i). With respect to the recission of this review, in part, Commerce intends to issue assessment instructions to CBP no earlier than 35 days after the date of publication of this notice in the Federal Register.

Cash Deposit Requirements

The following cash deposit requirements will be effective upon publication of the final results of this administrative review for all shipments of the subject merchandise from China entered, or withdrawn from warehouse, for consumption on or after the publication date, as provided for by section 751(a)(2)(C) of the Act: (1) for the subject merchandise exported by the companies listed above that have a separate rate, the cash deposit rate will be equal to the weighted-average dumping margin established in the final results of this administrative review (except, if the rate is zero or de minimis, then zero cash deposit will be required); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice. These deposit requirements, when imposed, shall remain in effect until further notice.

Final Results of Review

Unless otherwise extended, Commerce intends to issue the final results of this administrative review, including the results of its analysis of issues raised in case and rebuttal briefs, within 120 days of publication of these preliminary results of review in the Federal Register, pursuant to section 751(a)(3)(A) of the Act.

Notification to Importers

This notice serves as a preliminary reminder to importers of their responsibility under 19 CFR 351.402(f) to file a certificate regarding the reimbursement of antidumping duties prior to liquidation of the relevant entries during this POR. Failure to comply with this requirement could result in Commerce's presumption that reimbursement of antidumping duties occurred and the subsequent assessment of double antidumping duties.

Notification to Interested Parties

We are issuing and publishing these preliminary results of review in accordance with sections 751(a)(l) and 777(i)(l) of the Act, and 19 CFR 351.213 and 351.221(b)(4).

Dated: August 5, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Rescission of Administrative Review, in Part

V. Discussion of the Methodology

VI. Currency Conversion

VII. Recommendation

Appendix II

Non-Examined Companies Preliminarily Determined To Be Eligible for a Separate Rate

1. Beijing Pacific Activated Carbon Products Co., Ltd.

2. Bengbu Modern Environmental Co. Ltd.

3. Carbon Activated Tianjin Co., Ltd.

4. Ningxia Mineral & Chemical Limited

5. Shanxi Industry Technology Trading Co., Ltd.

6. Shanxi Sincere Industrial Co., Ltd.

7. Tancarb Activated Carbon Co., Ltd.

Appendix III

Companies Preliminarily Determined To Be Part of the China-Wide Entity

1. Shanxi Dapu International Trade Co., Ltd.

2. Shanxi DMD Corp.

3. Shanxi Tianxi Purification Filter Co., Ltd.

4. Sinoacarbon International Trading Co., Ltd.

5. Tianjin Maijin Industries Co., Ltd.

Appendix IV

Companies For Which Commerce Is Rescinding the Review

1. Datong Hongdi Carbon Co., Ltd.

2. Datong Municipal Yunguang Activated Carbon Co.

3. Jilin Bright Future Chemicals Co., Ltd.

4. Ningxia Guanghua Cherishmet Activated Carbon Co., Ltd.

5. Tianjin Jacobi International Trading Co., Ltd.; Jacobi Carbons AB; Jacobi Carbons Industry (Tianjin) Co., Ltd.; Jacobi Adsorbent Materials (Tianjin) Co., Ltd.

6. Tianjin Channel Filters Co., Ltd.

[FR Doc. 2025-15567 Filed 8-14-25; 8:45 am]

BILLING CODE 3510-DS-P